SMALL BUSINESS ADMINISTRATION

[Declaration of Disaster #3588]

State of Louisiana

As a result of the President's major disaster declaration on June 8, 2004, I find that Acadia, Iberville, Lafayette, Livingston, Pointe Coupee, St. Landry, St. Martin, and West Baton Rouge Parishes in the State of Louisiana constitute a disaster area due to damages caused by severe storms and flooding occurring on May 12 through May 19, 2004. Applications for loans for physical damage as a result of this disaster may be filed until the close of business on August 9, 2004, and for loans for economic injury until the close of business on March 8, 2005 at the address listed below or other locally announced locations: U.S. Small Business Administration, Disaster Area 3 Office, 14925 Kingsport Rd., Fort Worth, TX 76155-2243.

In addition, applications for economic injury loans from small businesses located in the following contiguous Parishes may be filed until the specified date at the above location: Allen, Ascension, Assumption, Avoyelles, East Baton Rouge, East Feliciana, Evangeline, Iberia, Jefferson Davis, St. Helena, St. John The Baptist, St. Mary, Tangipahoa, Vermilion, and West Feliciana Parishes in Louisiana.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 358806 and for economic injury the number assigned is 9ZH900.

(Catalog of Federal Domestic Assistance Program Nos. 59002 and 59008)
Dated: June 9, 2004.
Herbert L. Mitchell,
Associate Administrator for Disaster Assistance.

[FR Doc. 04-13511 Filed 6-15-04; 8:45 am]

BILLING CODE 8025-01-P